DEPARTMENT OF HEALTH AND HUMAN SERVICES

Health Resources and Services Administration

Solicitation of Nominations for Membership To Serve on the Advisory Committee on Interdisciplinary, Community-Based Linkages

AGENCY: Health Resources and Services Administration (HRSA), Department of Health and Human Services (HHS).

ACTION: Request for nominations.

SUMMARY: HRSA is seeking nominations of qualified candidates for consideration for appointment as members of the Advisory Committee on Interdisciplinary, Community-Based Linkages (ACICBL or Committee).

DATES: Nominations for membership on ACICBL must be received on or before June 30, 2023.

ADDRESSES: Nomination packages must be electronically submitted to the Designated Federal Official, Shane Rogers, at BHWAdvisoryCouncil@hrsa.gov.

FOR FURTHER INFORMATION CONTACT: Shane Rogers, Designated Federal Official, Division of Medicine and Dentistry, Bureau of Health Workforce, email SRogers@hrsa.gov or telephone at 301-443-5260.

SUPPLEMENTARY INFORMATION: The ACICBL provides advice and recommendations to the Secretary of HHS (Secretary) concerning policy and program development, and other significant matters related to activities under the Public Health Service (PHS) Act, which includes Area Health Education Centers, Geriatrics, Mental and Behavioral Health, Social Work, Graduate Psychology, Rural Health, and Pharmacy.

ACICBL is responsible for preparing and submitting an annual report to the Secretary and Congress describing the activities of the Committee, including findings and recommendations made by the Committee. ACICBL meets at least three times per year. A copy of the current committee membership, charter, and reports can be obtained by accessing the ACICBL website at: https://www.hrsa.gov/advisory-committees/interdisciplinary-community-linkages/index.html.

Nominations: HRSA is requesting nominations for voting members to serve as Special Government Employees. The Secretary appoints ACICBL members with the expertise needed to fulfill the duties of the Committee. The membership requirements are set forth in section 757 of the PHS Act (42 U.S.C. 294f). Members are health professionals from schools of medicine or osteopathic medicine, schools of dentistry, schools of pharmacy, schools of public health, physician assistant education programs, and schools of allied health. Interested applicants may self-nominate or be nominated by another individual or organization.

Individuals selected for appointment to the Committee will be invited to serve for 3 years. Members of ACICBL, as Special Government Employees, receive compensation for performance of their duties on the Committee and reimbursement for per diem and travel expenses incurred for attending ACICBL meetings.

The following information must be included in the package of materials submitted for each individual nominated for consideration: (1) A letter of nomination from an employer, a colleague, or a professional organization; (2) a current copy of the nominee's curriculum vitae; (3) a statement of interest from the nominee; and (4) a one-paragraph biographical sketch of the nominee. Nomination packages may be submitted directly by the individual being nominated or by the person/organization nominating the candidate.

HHS endeavors to ensure that the membership of ACICBL is fairly balanced in terms of points of view represented and among the health professions. ACICBL also seeks a broad representation of geographic areas, including balance between urban and rural members, gender, and minority groups, including individuals with disabilities. At least 75 percent of the members of the Committee are health professionals. Appointments shall be made without discrimination on the basis of age, race, ethnicity, gender, sexual orientation, disability, and or cultural, religious, or socioeconomic status.

Individuals who are selected to be considered for appointment will be required to provide detailed information regarding their financial holdings, consultancies, and research grants or contracts. Disclosure of this information is required for HRSA ethics officials to determine whether there is a potential conflict of interest between the Special Government Employee's public duties as a member of ACICBL and their private interests, including an appearance of a loss of impartiality as defined by federal laws and regulations, and to identify any required remedial action needed to address the potential conflict.

Authority: ACICBL is required by section 757 (42 U.S.C. 294f) of the PHS Act. Except where otherwise indicated, the Committee is governed by provisions of the Federal Advisory Committee Act of (FACA) of 1972 (5 U.S.C. 10), as amended, which sets forth standards for the formation and use of advisory committees.

Maria G. Button,
Director, Executive Secretariat.

[FR Doc. 2023-09595 Filed 5-4-23; 8:45 am]

BILLING CODE 4165-15-P